FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 000994F.

Name: ACME International, Inc.

Address: 5106 No. Cicero Avenue, Chicago, IL 60630.

Date Revoked: April 28, 2006.

Reason: Failed to maintain a valid bond.

License Number: 014586N.

Name: American Freight Liners Inc.

Address: 525 Milltown Road, Suite 304, North Brunswick, NJ 08902.

Date Revoked: April 7, 2006.

Reason: Failed to maintain a valid bond.

License Number: 014617N.

Name: Asiana Transport Inc.

Address: 510 Plaza Drive, Suite 2275, Atlanta, GA 30349.

Date Revoked: May 3, 2006.

Reason: Failed to maintain a valid bond.

License Number: 018915NF.

Name: C & J International Forwarding, Inc.

Address: 2659 West 76th Street, Hialeah, FL 33016.

Date Revoked: May 2, 2006.

Reason: Surrendered license voluntarily.

License Number: 015150N.

Name: Carjam Shipping, Inc.

Address: 8524 NW 72nd Street, Miami, FL 33166.

Date Revoked: April 23, 2006.

Reason: Failed to maintain a valid bond.

License Number: 018763N.

Name: Dietrich-Exccel, LLC dba Dietrich-Logistics Florida.

Address: 6701 NW 7th Street, Suite 135, Miami, FL 33126.

Date Revoked: April 9, 2006.

Reason: Failed to maintain a valid bond.

License Number: 000810F.

Name: Dominion International, Inc.

Address: 121 West Tazewell Street, Norfolk, VA 23510.

Date Revoked: April 20, 2006.

Reason: Surrendered license voluntarily.

License Number: 017778F.

Name: ESI Freight (USA) Inc.

Address: Cargo Bldg. 9, JFK Int'l Airport, Suite 250, 2nd Floor, Jamaica, NY 11430.

Date Revoked: May 12, 2006.

Reason: Surrendered license voluntarily.

License Number: 016848N.

Name: eKKa Forwarding, Inc.

Address: 223 Bergen Turnpike, Bldg. 3, Ridgefield Park, NJ 07660.

Date Revoked: April 29, 2006.

Reason: Failed to maintain a valid bond.

License Number: 004665F.

Name: First Unicorn International, Inc.

Address: 9080 Telstar Avenue, Suite 308, El Monte, CA 91731.

Date Revoked: May 4, 2006.

Reason: Failed to maintain a valid bond.

License Number: 018286N.

Name: Frederic Int'l Co., LLC.

Address: 17973 Arenth Avenue, City of Industry, CA 91748.

Date Revoked: May 7, 2006.

Reason: Failed to maintain a valid bond.

License Number: 018562N.

Name: Global Tassili Transport Services, Inc.

Address: 8206 Fairbanks No. Houston, Houston, TX 77064.

Date Revoked: April 13, 2006.

Reason: Failed to maintain a valid bond.

License Number: 004268F.

Name: J & S Universal Services, Inc. dba Patrick & Rosenfeld. Shipping Corp.

Address: 12972 SW 133rd Court, Suite A, Miami, FL 33186.

Date Revoked: April 12, 2006.

Reason: Failed to maintain a valid bond.

License Number: 019407F.

Name: James Worldwide, Inc.

Address: 550 E. Carson Plaza Drive, Suite 123, Carson, CA 90746.

Date Revoked: April 28, 2006.

Reason: Failed to maintain a valid bond.

License Number: 017975F.

Name: Johnny Air Cargo Inc.

Address: 69-40 Roosevelt Avenue, Woodside, NY 11377.

Date Revoked: April 30, 2006.

Reason: Failed to maintain a valid bond.

License Number: 019250N.

Name: MLR Exports Inc. dba MLR Export Consolidations.

Address: 8090 NW 71st Street, Miami, FL 33166.

Date Revoked: May 1, 2006.

Reason: Failed to maintain a valid bond.

License Number: 009792N.

Name: Novocargo USA, Inc.

Address: 1102 Bayview Avenue, Barnegat Light, NJ 08006.

Date Revoked: April 13, 2006.

Reason: Failed to maintain a valid bond.

License Number: 018181NF.

Name: OWS Logistics, Inc.

Address: 1000 Corporate Center Drive, Ste. 120, Monterey Park, CA 91754.

Date Revoked: March 31, 2006.

Reason: Surrendered license voluntarily.

License Number: 014369N.

Name: One Stop Cargo Services, Inc.

Address: 4636 NW 74th Avenue, Miami, FL 33166.

Date Revoked: April 21, 2006.

Reason: Failed to maintain a valid bond.

License Number: 018218N.

Name: Pacheco Express Shipping Inc.

Address: 1570 Webster Avenue, Bronx, NY 10457.

Date Revoked: April 30, 2006.

Reason: Failed to maintain a valid bond.

License Number: 017487F.

Name: Pacmil Logistics.

Address: 6155 Cornerstone Court East, Suite 100, San Diego, CA 92121.

Date Revoked: May 7, 2006.

Reason: Failed to maintain a valid bond.

License Number: 011170F.

Name: Sage Freight Systems Inc. dba Sage Container Lines.

Address: 182-30 150th Road, Suite 108, Jamaica, NY 11413.

Date Revoked: April 6, 2006.

Reason: Failed to maintain a valid bond.

License Number: 016316N.

Name: Surf Carriers, Inc.

Address: 1801 NW 82nd Avenue, Miami, FL 33126.

Date Revoked: April 14, 2006.

Reason: Failed to maintain a valid bond.

License Number: 000750F.

Name: Thomas E. Flynn & Co.

Address: 2525 SW 3rd Avenue, #410, Miami, FL 33129.

Date Revoked: April 12, 2006.

Reason: Failed to maintain a valid bond.

License Number: 017740N.

Name: Unified Parcel Express dba UPEX.

Address: Cargo Bldg., #80, Room 223, JFK International Airport, Jamaica, NY 11430.

Date Revoked: April 30, 2006.

Reason: Failed to maintain valid bond.

License Number: 018749N and 018749F.

Name: Venture Logistics, Inc.

Address: 10820 NW 30th Street, Miami, FL 33172.

Date Revoked: April 13, 2006 and February 19, 2006.

Reason: Failed to maintain valid bonds.

License Number: 001763NF.

Name: Vertex Freight Systems, Inc.

Address: 9900 NW 25th Street, Suite 220, Miami, FL 33172.

Date Revoked: April 30, 2006.

Reason: Failed to maintain a valid bond.

Peter J. King,
Deputy Director, Bureau of Certification and Licensing.

[FR Doc. E6-7951 Filed 5-23-06; 8:45 am]

BILLING CODE 6730-01-P